DEPARTMENT OF THE TREASURY

Alcohol and Tobacco Tax and Trade Bureau

Senior Executive Service; Combined Performance Review Board (CPRB)

AGENCY: Treasury Department, Alcohol and Tobacco Tax and Trade Bureau.

ACTION: Notice of members of Treasury Department Combined Performance Review Board.

SUMMARY: Pursuant to 5 U.S.C. 4314(c)(4), this notice announces the appointment of members of the Combined Performance Review Board (CPRB) for the Alcohol and Tobacco Tax and Trade Bureau (TTB), the United States Mint (USM), the Bureau of the Fiscal Service (FS), the Financial Crimes Enforcement Network (FinCEN), and the Bureau of Engraving and Printing (BEP). The CPRB reviews the performance appraisals of career senior executives below the level of the bureau head and principal deputy in each bureau represented by the CPRB. The CPRB makes recommendations regarding proposed performance appraisals, ratings, bonuses, pay adjustments, and other appropriate personnel actions. Membership is effective on October 6, 2015.

Composition of the Treasury Department CPRB, including names and titles, is as follows:

Primary Members

Mary G. Ryan, Deputy Administrator, TTB;

Richard Peterson, Deputy Director for Manufacturing and Quality, USM;

Kimberly A. McCoy, Deputy Commissioner, Fiscal Accounting and Shared Services, FS;

Jamal El-Hindi, Deputy Director, FinCEN; and

Will P. Levy III, Associate Director, Management, BEP.

Alternate Members

Theresa McCarthy, Assistant Administrator, Headquarters Operations, TTB;

Jon Cameron, Associate Director, Office of Coin Studies, USM;

Patricia (Marty) Greiner, Assistant Commissioner, Management/CFO, FS;

Diane Wade, Associate Director, Management Division, FinCEN; and

Debra H. Richardson, Associate Director, CFO, BEP.

FOR FURTHER INFORMATION CONTACT: Paula Bailey, Alcohol and Tobacco Tax and Trade Bureau, 1310 G Street NW., Box 12, Washington, DC 20005; phone 202-453-2036.

Dated: September 29, 2015.
John J. Manfreda,
Administrator.

[FR Doc. 2015-25430 Filed 10-5-15; 8:45 am]

BILLING CODE 4810-31-P